DEPARTMENT OF COMMERCE

National Oceanic and Atmospheric Administration

[RTID 0648-XC295]

Marine Mammals; File No. 26596

AGENCY: National Marine Fisheries Service (NMFS), National Oceanic and Atmospheric Administration (NOAA), Commerce.

ACTION: Notice; receipt of application.

SUMMARY: Notice is hereby given that Robin Baird, Ph.D., Cascadia Research Collective, 218½ West Fourth Avenue, Olympia, WA 98501, has applied in due form for a permit to conduct research on marine mammals.

DATES: Written, telefaxed, or email comments must be received on or before September 23, 2022.

ADDRESSES: The application and related documents are available for review by selecting “Records Open for Public Comment” from the “Features” box on the Applications and Permits for Protected Species (APPS) home page, https://apps.nmfs.noaa.gov, and then selecting File No. 26596 from the list of available applications. These documents are also available upon written request via email to NMFS.Pr1Comments@noaa.gov.

Written comments on this application should be submitted via email to NMFS.Pr1Comments@noaa.gov. Please include File No. 26596 in the subject line of the email comment.

Those individuals requesting a public hearing should submit a written request via email to NMFS.Pr1Comments@noaa.gov. The request should set forth the specific reasons why a hearing on this application would be appropriate.

FOR FURTHER INFORMATION CONTACT: Shasta McClenahan, Ph.D. or Courtney Smith, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant requests a 5-year permit to take marine mammals in the Pacific Ocean to study population structure, size, and range, movements, habitat use, social organization, diving behavior, diet, disease monitoring, behavior, and reactions to anthropogenic activity. Up to 43 species of cetaceans may be targeted for research including the following ESA-listed species: blue (Balaenoptera musculus), bowhead (Balaena mysticetus), fin (Balaenoptera physalus), false killer (Pseudorca crassidens; Main Hawaiian insular distinct population segment [DPS]), gray (Eschrichtius robustus; Western North Pacific DPS), humpback (Megaptera novaeangliae; Western North Pacific, Mexico, and Central America DPSs), killer (Orcinus orca; Southern Resident DPS), North Pacific right (Eubalaena japonica), sei (Balaenoptera borealis), and sperm (Physeter macrocephalus) whales. Researchers would conduct vessel surveys, including unmanned aircraft systems, for counts, passive acoustic recording, observations, photo-identification, photogrammetry, thermal imaging, video recording, biological sampling (sloughed skin, exhaled air, feces, prey remains, skin and blubber biopsy), and tagging (suction-cup, dart, and bolt/pin). Biological samples, including prey remains of ESA-listed marine mammal or fish species, may be imported and exported for analysis. Seven pinniped species including ESA-listed Hawaiian monk seals (Neomonachus schauinslandi), Guadalupe fur seals (Arctocephalus townsendi), and Steller sea lions (Eumetopias jubatus) may be harassed during research. See the application for numbers of animals requested by species and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 19, 2022.
Julia M. Harrison,
Chief, Permits and Conservation Division, Office of Protected Resources, National Marine Fisheries Service.

[FR Doc. 2022-18246 Filed 8-23-22; 8:45 am]

BILLING CODE 3510-22-P